DEPARTMENT OF ENERGY

Federal Energy Regulatory Commission

[Docket No. IC16-11-000]

Commission Information Collection Activities (FERC Forms 6 and 580); Comment Request

AGENCY: Federal Energy Regulatory Commission.

ACTION: Comment request.

SUMMARY: The Commission previously issued a Notice in the Federal Register (81 FR 38169, 6/13/2016) requesting public comments on FERC Forms 6, 580, 1, 1-F, and 3-Q. The Commission received no comments regarding FERC Forms 6 and 580. This 30-day notice only solicits comments on FERC Forms 6 and 580. FERC received comments regarding FERC Forms 1, 1-F, and 3-Q and will address those comments in a subsequent notice also in Docket No. IC16-11-000.

In compliance with the requirements of the Paperwork Reduction Act of 1995, 44 U.S.C. 3507(a)(1)(D), the Federal Energy Regulatory Commission (Commission or FERC) is submitting these information collections (FERC Form 6 [Annual Report of Oil Pipeline Companies] and FERC Form 580 [Interrogatory on Fuel and Energy Purchase Practices]) to the Office of Management and Budget (OMB) for review of the information collection requirements. Any interested person may file comments directly with OMB and should address a copy of those comments to the Commission as explained below.

DATES: Comments on the FERC Forms 6 and 580 are due by October 11, 2016.

ADDRESSES: Comments filed with OMB, identified by the OMB Control Nos. 1902-0022 (FERC Form 6) or 1902-0137 (FERC-580) should be sent via email to the Office of Information and Regulatory Affairs: oira_submission@omb.gov, Attention: Federal Energy Regulatory Commission Desk Officer.

A copy of the comments should also be sent to the Commission, in Docket No. IC16-11-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, by telephone at (202) 502-8663, and by fax at (202) 273-0873.

SUPPLEMENTARY INFORMATION: Type of Request: Three-year extension of the information collection requirements for all collections described below with no changes to the current reporting requirements. There are some non-substantive corrections being made to the instructions (such as reflecting the current estimated burden hours and updating addresses). Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC Form No. 6, Annual Report of Oil Pipeline Companies ¹

¹ The renewal request for the FERC Form No. 6 in Docket No. IC16-11 is for the current form, with no change to the reporting requirements. None of the comments received in Docket No. IC16-11 pertained to FERC Form 6. The FERC Form No. 6 is also part of the Forms Refresh effort (Docket No. AD15-11), which is a separate activity and not addressed in this Notice. In addition, there is a pending Docket No. RM15-19 which is a separate activity and is not addressed in this Notice.

OMB Control No.: 1902-0022.

Abstract: Under the Interstate Commerce Act (ICA), (Section 20, 54 Stat. 916), the Interstate Commerce Commission (ICC) was authorized and empowered to make investigations and to collect and record data to the extent considered necessary or useful for the purpose of carrying out the provisions of the ICA.

In 1977, the Department of Energy Organization Act transferred to the Commission from the ICC the responsibility to regulate oil pipeline companies. In accordance with the transfer of authority, the Commission was delegated the responsibility to require oil pipelines to file annual reports of information necessary for the Commission to exercise its statutory responsibilities.² The transfer included the Form P, the predecessor to the FERC Form No. 6, Annual Report of Oil Pipeline Companies (Form 6).³

² Section 402(b) of the Department of Energy Organization Act (DOE Act), 42 U.S.C. 7172 provides that; “[t]here are hereby transferred to, and vested in, the Commission all functions and authority of the Interstate Commerce Commission or any officer or component of such Commission where the regulatory function establishes rates or charges for the transportation of oil by pipeline or established the valuation of any such pipeline.”

³ The ICC developed the Form P to collect information on an annual basis to enable it to carry out its regulation of oil pipeline companies under the Interstate Commerce Act. A comprehensive review of the reporting requirements for oil pipeline companies was performed on September 21, 1982, when the Commission issued Order 260 revising the former ICC Form P, “Annual Report of Carriers by Pipeline” and re-designating it as FERC Form No. 6, “Annual Report of Oil Pipeline Companies”.

To reduce burden on industry, the FERC Form No. 6 has three tiers of reporting requirements:

1. Each oil pipeline carrier whose annual jurisdictional operating revenues has been $500,000 or more for each of the three previous calendar years must file FERC Form No. 6. Oil pipeline carriers submitting a complete FERC Form No. 6 must submit FERC Form 6-Q.⁴ Newly established entities must use projected data to determine whether FERC Form No. 6 must be filed.

⁴ FERC Form 6-Q is covered separately and is approved by OMB under OMB Control No. 1902-0206. It is not a subject of this Notice; FERC Form 6-Q is being addressed separately in Docket No. IC16-7-000.

2. Oil pipeline carriers exempt from filing FERC Form No. 6 whose annual jurisdictional operating revenues have been more than $350,000 but less than $500,000 for each of the three previous calendar years must prepare and file page 301, “Operating Revenue Accounts (Account 600), and page 700, “Annual cost of Service Based Analysis Schedule,” of FERC Form No. 6. When submitting pages 301 and 700, each exempt oil pipeline carrier must include page 1 of the FERC Form No. 6, the Identification and Attestation schedules.

3. Oil pipeline carriers exempt from filing FERC Form No. 6 and page 301 and whose annual jurisdictional operating revenues were $350,000 or less for each of the three previous calendar years must prepare and file page 700, “Annual Cost of Service Based Analysis Schedule,” of FERC Form No. 6.

The Commission uses the FERC Form No. 6 information in:

• Implementation of its financial audits and programs, the continuous review of the financial condition of regulated companies, and the assessment of energy markets

• various rate proceedings and economic analyses

• background research for use in litigation

• programs relating to the administration of the ICA

• computation of annual charges, which are required by Section 3401 of the Omnibus Budget Reconciliation Act of 1986.

Type of Respondent: Oil Pipelines.

Estimate of Annual Burden: The Commission estimates the annual public reporting burden ⁵ and cost ⁶ for the FERC Form No. 6 information collection as follows.

⁵ The burden associated with the one-time re-filing of Page 700 data for Years 2009-2011 has been completed and is not included.

⁶ The cost is based on FERC's 2016 average cost (salary plus benefits) of $74.50/hour. The Commission staff believes that the industry's level and skill set is comparable to FERC.

FERC Form No. 6, Annual Report of Oil Pipeline Companies
Number of respondents ⁷ | Annual number of responses per respondent | Total number of responses | Average burden & cost per response | Total annual burden hours & total annual cost | Cost per respondent ($)
(1) | (2) | (1) * (2) = (3) | (4) | (3) * (4) = (5) | (5) ÷ (1)
198 | 1 | 198 | 161 hrs.; $11,995 | 31,878 hrs.; $2,375,010 | $11,995

The reporting requirements are not changing. However we are making non-substantive corrections to update the number of burden hours and addresses in the instructions, as detailed in Attachment A.

⁷ The number of respondents (and responses) is subject to change because of normal fluctuations in the industry (e.g., companies merging, splitting, entering into and exiting the industry).

FERC Form No. 580, Interrogatory on Fuel and Energy Purchase Practices

OMB Control No.: 1902-0137.

Abstract: FERC Form No. 580 is collected in even numbered years. The Public Utility Regulatory Policies Act (PURPA) ⁸ amended the Federal Power Act (FPA) and directed the Commission to make comprehensive biennial reviews of certain matters related to automatic adjustment clauses (AACs) in wholesale rate schedules used by public utilities subject to the Commission's jurisdiction. Specifically, the Commission is required to examine whether the clauses effectively provide the incentives for efficient use of resources and whether the clauses reflect only those costs that are either “subject to periodic fluctuations” or “not susceptible to precise determinations” in rate cases prior to the time the costs are incurred.

⁸ Enacted November 8, 1978.

The Commission is also required to review the practices of each public utility under AACs “to insure efficient use of resources under such clauses.” ⁹ In response to the PURPA directive, the Commission (Docket Number IN79-6-000) established an investigation. Beginning in 1982, the Commission collected “Interrogatory on Fuel and Energy Purchase Practices” data every other year.

⁹ The review requirement is set forth in two paragraphs of Section 208 of PURPA, 49 Stat. 851; 16 U.S.C. 824d.

Based on filer comments in response to the new electronic form used in the 2014 collections, FERC recommends the following changes to the instructions. FERC is not changing the requirements of the information collection.

Question 2a

—Revise Question 2a columns as follows:

From | To
Docket number under which rate schedule containing AAC through which costs were passed during 2012 and/or 2013 was accepted for filing by FERC. Was rate schedule superseded or abandoned during 2012-2013? If so, provide dates | Docket number under which rate schedule containing AAC through which costs were passed during 2014 and/or 2015 was accepted for filing by FERC. Was rate schedule superseded or abandoned during 2014-2015? If so, provide dates.

Question 2b

—Revise the paragraph under Question 2b to read:

From | To
If any of the Utility's wholesale rate and/or service agreements containing an AAC listed in Question 2a, that was used during 2012 and/or 2013, was filed with the Commission before January 1, 1990, attach an electronic copy of it with this filing. List the documents you are submitting below. Note: Once this information is submitted electronically in a text-searchable format it will not be necessary to submit it in future Form 580 filings. See: http://www.ferc.gov/docs-filing/elibrary/accept-file-formats.asp for listing of Commission accepted document types | If any of the Utility's wholesale rate and/or service agreements containing an AAC listed in Question 2a, that was used during 2014 and/or 2015, was filed with the Commission before January 1, 1990, attach an electronic copy of it with this filing. List the documents you are submitting below. Note: Once this information is submitted electronically in a text-searchable format it will not be necessary to submit it in future Form 580 filings. See: http://www.ferc.gov/docs-filing/elibrary/accept-file-formats.asp for listing of Commission accepted document types.

Question 3

—Revise the paragraph under Question 3 to read:

From | To
If during the 2012-2013 period, the Utility had any contracts or agreements for the purchase of either energy or capacity under which all or any portion of the purchase costs were passed through a fuel adjustment clause (FAC), for each purchase from a PURPA Qualifying Facility (QF) or Independent Power Producer (IPP) provide the information requested in the non-shaded columns of the table below. Provide the information separately for each reporting year 2012 and 2013. Do not report purchased power where none of the costs were recovered through an FAC. For each purchase where costs were flowed through an FAC, fill-in the non-shaded columns and either “Only energy charges” or “The total cost of the purchase of economic power” columns, whichever apply | If during the 2014-2015 period, the Utility had any contracts or agreements for the purchase of either energy or capacity under which all or any portion of the purchase costs were passed through a fuel adjustment clause (FAC), for each purchase from a PURPA Qualifying Facility (QF) or Independent Power Producer (IPP) provide the information requested in the non-shaded columns of the table below. Provide the information separately for each reporting year 2014 and 2015. Do not report purchased power where none of the costs were recovered through an FAC. For each purchase where costs were flowed through an FAC, fill-in the non-shaded columns and either “Only energy charges” or “The total cost of the purchase of economic power” columns, whichever apply.

Question 4a

—Revise Question 4a columns as follows:

From | To
If emission allowance costs were incurred by the Utility in 2012 and/or 2013 and were recovered through a FAC, provide the following information | If emission allowance costs were incurred by the Utility in 2014 and/or 2015 and were recovered through a FAC, provide the following information.
Dollar value of emission allowance cost passed through a FAC: 2012|2013 | Dollar value of emission allowance cost passed through a FAC: 2014|2015.

Question 5

—Revise the paragraph under Question 5 as follows:

From | To
Provide the information requested below regarding the Utility's fuel procurement policies and practices in place during 2012 and/or 2013 for fuels whose costs were subject to 18 CFR 35.14. Note: Responses to this question may be filed as Privileged. To do so, skip this question now and answer it via the Fuel Procurement Policies and Practices Privileged Addendum provided. Otherwise, answer it here and your responses will be made public | Provide the information requested below regarding the Utility's fuel procurement policies and practices in place during 2014 and/or 2015 for fuels whose costs were subject to 18 CFR 35.14. Note: Responses to this question may be filed as Privileged. To do so, skip this question now and answer it via the Fuel Procurement Policies and Practices Privileged Addendum provided. Otherwise, answer it here and your responses will be made public.

Question 6

—Revise the paragraph under Question 6 as follows:

From | To
For each fuel supply contract, of longer than one year in duration, in force at any time during 2012 and/or 2013, where costs were subject to 18 CFR 35.14, (including informal agreements with associated companies), provide the requested information. Report the information individually for each contract, for each calendar year. [No response to any part of Question 6 for fuel oil no. 2 is necessary.] Report all fuels consumed for electric power generation and thermal energy associated with the production of electricity. Information for only coal, natural gas, and oil should be reported | For each fuel supply contract, of longer than one year in duration, in force at any time during 2014 and/or 2015, where costs were subject to 18 CFR 35.14, (including informal agreements with associated companies), provide the requested information. Report the information individually for each contract, for each calendar year. [No response to any part of Question 6 for fuel oil no. 2 is necessary.] Report all fuels consumed for electric power generation and thermal energy associated with the production of electricity. Information for only coal, natural gas, and oil should be reported.

Question 7

—Revise the paragraph under Question 6 as follows:

From | To
For each fuel supply contract, including informal agreements with associated or affiliated companies in force at any time during 2012 or 2013 WHERE CONTRACT SHORTFALL COSTS WERE PASSED THROUGH an FAC subject to 18 CFR 35.14, provide for each contract separately the information requested below. Only report the information requested for shortfalls that occurred under your contracts during reporting years 2012 or 2013 and that are not under dispute i.e., parties agree there was indeed a shortfall | For each fuel supply contract, including informal agreements with associated or affiliated companies in force at any time during 2014 or 2015 WHERE CONTRACT SHORTFALL COSTS WERE PASSED THROUGH an FAC subject to 18 CFR 35.14, provide for each contract separately the information requested below. Only report the information requested for shortfalls that occurred under your contracts during reporting years 2014 or 2015 and that are not under dispute i.e., parties agree there was indeed a shortfall.

Question 8

—Revise the paragraph under Question 8 as follows:

From | To
For each fuel supply contract that was bought-out or bought-down, including informal agreements with associated or affiliated companies in force at any time during 2012 or 2013 WHERE CONTRACT BUY-OUT AND/OR BUY-DOWN COSTS WERE PASSED THROUGH an FAC subject to 18 CFR 35.14, provide for each contract separately the information requested below. Only report the information requested for contract buy-downs and buy-outs that occurred under your contracts during reporting years 2012 or 2013 and that are not under dispute i.e., parties agree there was indeed a shortfall | For each fuel supply contract that was bought-out or bought-down, including informal agreements with associated or affiliated companies in force at any time during 2014 or 2015 WHERE CONTRACT BUY-OUT AND/OR BUY-DOWN COSTS WERE PASSED THROUGH an FAC subject to 18 CFR 35.14, provide for each contract separately the information requested below. Only report the information requested for contract buy-downs and buy-outs that occurred under your contracts during reporting years 2014 or 2015 and that are not under dispute i.e., parties agree there was indeed a shortfall.

Access to the Revised Materials: A copy of the revised form (which includes instructions and glossary) and desk reference will be publically available in Docket No. IC16-11-000, but they will not be published in the Federal Register.¹⁰ Interested parties can see these materials electronically as part of this notice in FERC's eLibrary (http://www.ferc.gov/docs-filing/elibrary.asp) by searching Docket No. IC16-11-000.

¹⁰ The revised form is intended to illustrate superficial changes only and does not include all the interactive features of the actual form.

Type of Respondent: Large electric public utilities within FERC jurisdiction.

Estimate of Annual Burden: ¹¹ The Commission estimates the annual ¹² public reporting burden for the information collection as:

¹¹ The Commission defines burden as the total time, effort, or financial resources expended by persons to generate, maintain, retain, or disclose or provide information to or for a Federal agency. For further explanation of what is included in the information collection burden, reference 5 Code of Federal Regulations 1320.3.

¹² The FERC Form 580 data is collected on a biennial basis. In order to represent the burden appropriately, the “Annual Number of Responses per Respondent” is assigned a figure of 0.5. This figure means that one response per respondent is received on average for each two year period. The “Total Annual Burden Hours & Total Annual Cost” figures are all annual figures based on the biennial frequency assumption.

¹³ The estimates for cost per response are derived using the 2016 FERC average salary plus benefits of $154,647/year (or $74.50/hour). Commission staff finds that the work done for this information collection is typically done by wage categories similar to those at FERC.

FERC Form 580
[Interrogatory on fuel and energy purchase practices]
| Number of respondents | Annual number of responses per respondent | Total number of responses | Average burden & cost per response ¹³ | Total annual burden hours & total annual cost | Annual cost per respondent ($)
| (1) | (2) | (1) * (2) = (3) | (4) | (3) * (4) = (5) | (5) ÷ (1)
Respondents with FACs | 37 | 0.5 | 18.5 | 103 hrs.; $7,673.50 | 1,905.5 hrs.; $141,959.75 | 3,836.75
Respondents with AACs, but no FACs | 10 | 0.5 | 5 | 20 hrs.; $1,490 | 100 hrs.; $7,450 | 745
Respondents with no AACs nor FACs | 35 | 0.5 | 17.5 | 2 hrs.; $149 | 35 hrs.; $2,607.50 | 74.50
Total |  |  | 41 |  | 2,040.5 hrs.; $152,017.25 |

Dated: September 1, 2016.
Kimberly D. Bose,
Secretary.

[FR Doc. 2016-21567 Filed 9-7-16; 8:45 am]

BILLING CODE 6717-01-P